DEPARTMENT OF TRANSPORTATION

Federal Motor Carrier Safety Administration

[Docket No. FMCSA-2018-0279]

Agency Information Collection Activities; New Information Collection: Crash Risk by Commercial Motor Vehicle Driver Schedules

AGENCY: Federal Motor Carrier Safety Administration (FMCSA), DOT.

ACTION: Notice and request for comments.

SUMMARY: In accordance with the Paperwork Reduction Act of 1995, the Federal Motor Carrier Safety Administration (FMCSA) announces its plan to submit the Information Collection Request (ICR) described below to the Office of Management and Budget (OMB) for its review and approval and invites public comment. This ICR is associated with FMCSA's study to investigate how commercial motor vehicle (CMV) drivers' schedules impact overall driver performance and safety. FMCSA needs these data to answer important research questions related to driver schedules and how these affect overall driver performance and fatigue.

DATES: We must receive your comments on or before December 24, 2018.

ADDRESSES: You may submit comments identified by Federal Docket Management System (FDMS) Docket Number FMCSA-2018-0279 using any of the following methods:

• Federal eRulemaking Portal: http://www.regulations.gov. Follow the online instructions for submitting comments.

• Fax: 1-202-493-2251.

• Mail: Docket Operations; U.S. Department of Transportation, 1200 New Jersey Avenue SE, West Building, Ground Floor, Room W12-140, Washington, DC 20590-0001.

• Hand Delivery or Courier: U.S. Department of Transportation, 1200 New Jersey Avenue SE, West Building, Ground Floor, Room W12-140, Washington, DC 20590-0001 between 9 a.m. and 5 p.m. e.t., Monday through Friday, except Federal holidays.

Instructions: All submissions must include the Agency name and docket number. For detailed instructions on submitting comments, see the Public Participation heading below. Note that all comments received will be posted without change to http://www.regulations.gov, including any personal information provided. Please see the Privacy Act heading below.

Docket: For access to the docket to read background documents or comments received, go to http://www.regulations.gov, and follow the online instructions for accessing the dockets, or go to the street address listed above.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Public Participation: The Federal eRulemaking Portal is available 24 hours each day, 365 days each year. You can obtain electronic submission and retrieval help and guidelines under the “help” section of the Federal eRulemaking Portal website. If you want us to notify you that we received your comments, please include a self-addressed, stamped envelope or postcard, or print the acknowledgement page that appears after submitting comments online. Comments received after the comment closing date will be included in the docket and will be considered to the extent practicable.

FOR FURTHER INFORMATION CONTACT: Theresa Hallquist, Research Division, Department of Transportation, Federal Motor Carrier Safety Administration, 1200 New Jersey Avenue SE, Washington, DC 20590. Telephone: 202-366-1064; email theresa.hallquist@dot.gov.

SUPPLEMENTARY INFORMATION:

Background

The preamble of FMCSA's December 27, 2011, Hours-of-Service (HOS) of Drivers Final Rule states, “FMCSA is committed to conducting a comprehensive analysis of the relative crash risk by driving hour and the impact of the changes in the HOS provisions in today's final rule. The Agency plans to match data collected from driver logs with crash information to determine the level of crash risk by hours of driving. The Agency also plans to estimate, for similarly situated drivers, the difference in crash risk after restarts that include two nights and those that do not. FMCSA will work with the OMB on the methodologies of these new statistical data collections” 76 FR 81134, 81135-81136.

Further, a 2015 report by the National Academies of Sciences, Engineering, and Medicine, “Research Needs on CMV Driver Fatigue, Long-Term Health and Highway Safety,” recommended that: “FMCSA should incentivize those who capture driver performance data (e.g., large fleets, independent trucking associations, companies that collect telematics data, insurance companies, researchers) to increase the availability of those data relevant to research issues of operators' fatigue, hours of service, and highway safety. Any such efforts should ensure that data confidentiality is maintained, perhaps through restricted access arrangements or use of statistical techniques for disclosure protection. Clearly, such carrier-collected data could offer a rich opportunity for analysis of various questions of interest concerning HOS regulations, fatigue, and crash frequency. If data from a number of large carriers across the commercial trucking industry could be collected, organized in a database, and made available to researchers, these data could represent an important segment of the trucking industry” (pg. 188-189).

FMCSA needs additional data to answer important questions related to driver schedules and how these factors impact overall driver performance and fatigue. This effort will continue data collection previously initiated in the first phase of the project, and collect additional information to improve FMCSA's decision-making regarding various aspects of the HOS provisions, how HOS provisions are being used, and the impact of driver schedules on crash risk. The purpose of the first phase of this project was to pilot test methodologies to collect HOS and crash data from nine carriers. The current effort, titled “Crash Risk by Commercial Motor Vehicle Driver Schedules”, will expand the data collection effort to 44 carriers (which accounts for potential carrier attrition) and use these data to analyze how HOS provisions are being used and the impact of driver schedules on crash risk (i.e., determine crash risk ratios for various aspects of the HOS provisions). In Phase I, the research team primarily targeted CMV carriers with more than 1,000 power units. Drivers at the nine participating carriers were involved in a total of 6,318 crashes, including 3,035 preventable, 585 FMCSA-reportable, 195 injuries, and 14 fatal crashes. The electronic logging device (ELD) data from the nine carriers contained a total of 60,933,691 duty entries (i.e., changes in driver duty status) and 4,226,737 total days with log entries (from 36,369 different drivers) over six months (with one carrier submitting data for 12 month). Of the duty entries, there were 25,047,200 driving entries, 2,243,276 sleeper berth entries, 21,668,911 on-duty (not driving) entries, and 9,531,505 off-duty entries. To obtain the statistical power needed to answer the below research questions, the Phase I data set will be combined with the new data collected in Phase II.

The objective of the study is to collect HOS and crash data to analyze how HOS provisions are being used and the effect of driver schedules on crash risk (i.e., determine crash risk ratios for various aspects of HOS provisions). Specifically, the data collected will be able to address the following research questions: (i) What is the relative crash risk by hour of driving (e.g., the number of total crashes by hour/the number of drivers by hour of driving); (ii) what is the relative crash risk by hour of driving per week (e.g., the number of crashes by hour of driving/the number of drivers by hour of driving per week); (iii) what is the relative crash risk of driving breaks (e.g., comparison of crash rates for drivers who take no breaks compared to drivers who take one and two 30-minute breaks in one day); (iv) what is the relative crash risk as a function of recovery periods that contain one period between 1 a.m. and 5 a.m. compared to two periods between 1 a.m. and 5 a.m. and as a function of weekly working hours before and after a 34-hour restart (i.e., compare the relative crash risk of schedules with more opportunities for restorative sleep during the natural circadian low); and (v) how each of the HOS provisions is being used?

FMCSA has determined that the proposed data collection schedule is necessary to complete the study; currently, there is limited existing data that can be used for this project. The Phase I data set only included nine carriers with no vehicle or Motor Carrier Management Information System (MCMIS) data. Although the Phase I data set is valuable, it is insufficient to answer the research questions required in this project. Data will be collected electronically from each participating carrier every 6 months for 3 years. Less frequent data collection of information would result in lost data as most carriers only retain the most recent 6 months of ELD data (as required by FMCSA). Thus, there would be gaps in driver duty status data that would limit the data analyses.

FMCSA proposes that the data collected in the study, after being de-identified, be made available to the public (using a legend and anonymous reference to the carriers and drivers in the data set) via FMCSA's Data Repository. Confidentiality protections will be carefully utilized, as further discussed in section 10 of the supporting statement associated with this information collection. FMCSA seeks comment on this proposal.

Title: Crash Risk by Commercial Motor Vehicle Driver Schedules.

OMB Control Number: 2126-NEW.

Type of Request: New information collection.

Respondents: Commercial motor vehicle carriers with 100 or more power units.

Estimated Number of Respondents: At least 44 commercial motor vehicle carriers. Recruitment will focus on 40 commercial motor vehicle carriers and anticipate a 10 percent attrition rate over the three years. Thus, a total of 44 commercial motor vehicle carriers over the three years.

Estimated Time per Response: The carriers that participate in the study are expected to see a burden up to 58 hours over 3 years (if they participate for the full three years).

• Review of study material and grant permission (1 response × 2 hours/response or 2 hours).

• Compile existing datasets (7 responses × 6 hours/response or 42 hours).

• Anonymize existing dataset (7 responses × 1 hour/response or 7 hours).

• Transfer existing datasets (7 responses × 1 hour/response or 7 hours)

Expiration Date: Three years after approval.

Frequency of Response: Data will be collected every 6 months for 3 years.

Estimated Total Annual Burden: The estimated total annual burden is 776 hours across the 44 carriers. It is estimated that one national-level manager from each of the 44 participating carriers will bear the burden of participating in the study. Each carrier already maintains each of the requested data sets; carriers will not be required to collect new data or maintain new data sets. Instead, the participating carrier burden is associated with reviewing study materials; granting permission to participate; and compiling, anonymizing, and transferring the carrier-owned, existing crash, ELD, driver, and vehicle data sets a total of seven times (i.e., initial data collection plus every 6 months for 3 years). Reviewing the study materials and granting permission to participate in the study is estimated to take each carrier 2 hours (one time response; 44 total responses). Carriers are estimated to spend approximately 6 hours compiling the existing data sets (per response; 7 total responses), 1 hour anonymizing the existing data sets (per response; 7 total responses), and 1 hour transferring the existing data sets to the research team (per response; 7 total responses); however, there are only 40 responses for these tasks as carriers that withdraw from the study are replaced with new carriers (e.g., Carrier A withdraws after 4 responses and Carrier B replaces Carrier A for the remaining 3 responses).

Public Comments Invited: You are asked to comment on any aspect of this information collection, including: (1) Whether the proposed collection is necessary for the performance of FMCSA's functions; (2) the accuracy of the estimated burden; (3) ways for FMCSA to enhance the quality, usefulness, and clarity of the collected information; and (4) ways that the burden could be minimized without reducing the quality of the collected information. The agency will summarize or include your comments in the request for OMB's clearance of this information collection.

Issued under the authority of 49 CFR 1.87 on: October 17, 2018.
Kelly Regal,
Associate Administrator for Office of Research and Information Technology.

[FR Doc. 2018-23334 Filed 10-24-18; 8:45 am]

BILLING CODE 4910-EX-P